DEPARTMENT OF HEALTH AND HUMAN SERVICES

Office of the National Coordinator for Health Information Technology; American Health Information Community Confidentiality, Privacy and Security Workgroup Meeting

ACTION: Announcement of meeting.

SUMMARY: This notice announces the third meeting of the American Health Information Community Confidentiality, Privacy and Security Workgroup in accordance with the Federal Advisory Committee Act (Pub. L. 92-463, 5 U.S.C., App.)

DATES: October 6, 2006, from 11 a.m. to 2 p.m.

ADDRESSES: Mary C. Switzer Building (330 C Street, SW., Washington, DC 20201), Conference Room 4090 (please bring photo ID for entry to a Federal building).

FOR FURTHER INFORMATION CONTACT: http://www.hhs.gov/healthit/ahic.html.

SUPPLEMENTARY INFORMATION CONTACT: The workgroup members will discuss outcomes from the testimony hearing held on September 29, 2006, regarding identify proofing and user authentication.

The meeting will be available via Web cast at http://www.eventcenterlive.com/cfmx/ec/login/loginl.cfm?BID=67.

Dated: September 18, 2006.
Judith Sparrow,
Director, American Health Information Community, Office of Programs and Coordination, Office of the National Coordinator for Health Information Technology.

[FR Doc. 06-8069 Filed 9-21-06; 8:45 am]

BILLING CODE 4150-24-M